DEPARTMENT OF ENERGY

Federal Energy Regulatory Commission

Combined Notice of Filings #1

January 27, 2010.

Take notice that the Commission received the following electric rate filings:

Docket Numbers: ER97-870-016.

Applicants: Sunoco Power Marketing LLC.

Description: Sunoco Power Marketing, LLC submits Second Revised Sheet 1 et al to its FERC Electric Tariff, Original Volume 1.

Filed Date: 01/27/2010.

Accession Number: 20100127-0017.

Comment Date: 5 p.m. Eastern Time on Wednesday, February 17, 2010.

Docket Numbers: ER00-2885-027; ER07-1356-013; ER07-1112-011; ER07-1113-011; ER07-1116-010; ER07-1358-012; ER07-1118-012; ER01-2765-026; ER09-609-004; ER09-1141-006; ER05-1232-022; ER02-2102-026; ER03-1283-021; ER07-1117-013.

Applicants: J.P. Morgan Ventures Energy Corporation, BE Allegheny LLC, BE CA LLC, BE Ironwood LLC, BE KJ LLC, BE Rayle LLC, BE Alabama LLC, BE Louisiana LLC, Cedar Brakes I, L.L.C., Utility Contract Funding, L.L.C., Vineland Energy LLC, Central Power & Lime LLC, Cedar Brakes II, L.L.C., J.P. Morgan Commodities Canada Corporation.

Description: JPMorgan Sellers submit Notice of Non-Material Change in Status.

Filed Date: 01/22/2010.

Accession Number: 20100122-5155.

Comment Date: 5 p.m. Eastern Time on Friday, February 12, 2010.

Docket Numbers: ER01-3001-025; ER03-647-015.

Applicants: New York Independent System Operator, Inc.

Description: Motion of New York Independent System Operator, Inc. to Advance the Filing Deadline for Filing Certain Compliance Reports.

Filed Date: 01/11/2010.

Accession Number: 20100111-5121.

Comment Date: 5 p.m. Eastern Time on Monday, February 1, 2010.

Docket Numbers: ER04-230-045; ER01-1385-039; ER01-3155-030; EL01-45-038.

Applicants: New York Independent System Operator, Inc, Consolidated Edison Company of New York.

Description: Twentieth Quarterly Report and Request to Conclude Reporting Obligation by New York Independent System Operator, Inc.

Filed Date: 01/15/2010.

Accession Number: 20100115-5100.

Comment Date: 5 p.m. Eastern Time on Friday, February 5, 2010.

Docket Numbers: ER04-879-001.

Applicants: Sunoco Power Generation, LLC.

Description: Sunoco Power Generation, LLC submits marked tariff sheets and clean tariff sheets that conform to the pro forma tariff provisions of Order 697.

Filed Date: 01/27/2010.

Accession Number: 20100127-0008.

Comment Date: 5 p.m. Eastern Time on Wednesday, February 17, 2010.

Docket Numbers: ER09-1364-002.

Applicants: Michigan Power Limited Partnership.

Description: Michigan Power Limited Partnership Notice of Market-Based Rate Non-Material Change In Facts.

Filed Date: 01/25/2010.

Accession Number: 20100125-5173.

Comment Date: 5 p.m. Eastern Time on Tuesday, February 16, 2010.

Docket Numbers: ER10-86-002.

Applicants: Midwest Independent Transmission System Operator, Inc.

Description: Midwest Independent Transmission System Operator, Inc submits errata to its 1/19/10 compliance filing addressing the directives in the Commission's 12/18/09 Order.

Filed Date: 01/21/2010.

Accession Number: 20100122-0203.

Comment Date: 5 p.m. Eastern Time on Thursday, February 11, 2010.

Docket Numbers: ER10-153-001.

Applicants: Niagara Mohawk Power Corporation.

Description: Niagara Mohawk Power Corporation submits a revised Site Agreement with Erie Boulevard Hydropower, LP.

Filed Date: 01/25/2010.

Accession Number: 20100126-0216.

Comment Date: 5 p.m. Eastern Time on Tuesday, February 16, 2010.

Docket Numbers: ER10-551-001.

Applicants: Hartwell Energy Limited Partnership.

Description: Hartwell Energy Limited partnership submits an Amended Notice of Cancellation of Rate Schedule 1.

Filed Date: 01/25/2010.

Accession Number: 20100126-0214.

Comment Date: 5 p.m. Eastern Time on Tuesday, February 16, 2010.

Docket Numbers: ER10-552-001.

Applicants: Heard County Power, L.L.C.

Description: Heard County Power, LLC submits an Amended Notice of Cancellation of Rate Schedule 1.

Filed Date: 01/25/2010.

Accession Number: 20100126-0215.

Comment Date: 5 p.m. Eastern Time on Tuesday, February 16, 2010.

Docket Numbers: ER10-613-000.

Applicants: Southwest Power Pool, Inc.

Description: Southwest Power Pool, Inc submits executed Large Generator Interconnection Agreement.

Filed Date: 01/15/2010.

Accession Number: 20100119-0207.

Comment Date: 5 p.m. Eastern Time on Friday, February 5, 2010.

Docket Numbers: ER10-616-000.

Applicants: Florida Power Corporation.

Description: Florida Power Corporation submits a cost based power agreement with Reedy Creek Improvement District to be effective 3/16/10.

Filed Date: 01/15/2010.

Accession Number: 20100119-0220.

Comment Date: 5 p.m. Eastern Time on Friday, February 5, 2010.

Docket Numbers: ER10-639-000.

Applicants: Midwest Independent Transmission System Operator, Inc.

Description: Midwest Independent Transmission System Operator, Inc submits proposed revisions to its Open Access Transmission, Energy and Operating Reserve Markets Tariff.

Filed Date: 01/25/2010.

Accession Number: 20100126-0206.

Comment Date: 5 p.m. Eastern Time on Tuesday, February 16, 2010.

Docket Numbers: ER10-640-000.

Applicants: Midwest Independent Transmission System Operator, Inc.

Description: Midwest Independent Transmission System Operator, Inc submits proposed revisions to its Open Access Transmission, Energy and Operating Reserve Markets Tariff.

Filed Date: 01/25/2010.

Accession Number: 20100126-0213.

Comment Date: 5 p.m. Eastern Time on Tuesday, February 16, 2010.

Take notice that the Commission received the following PURPA 210(m)(3) filings:

Docket Numbers: QM10-4-003.

Applicants: Public Service Company of New Hampshire.

Description: Supplemental Information of Public Service Company of New Hampshire.

Filed Date: 01/22/2010.

Accession Number: 20100122-5035.

Comment Date: 5 p.m. Eastern Time on Friday, February 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-2623 Filed 2-5-10; 8:45 am]

BILLING CODE 6717-01-P